ENVIRONMENTAL PROTECTION AGENCY

[EPA-HQ-OAR-2007-0482-0012; FRL-10020-76-OMS]

Information Collection Request Submitted to OMB for Review and Approval; Comment Request; SmartWay Transport Partnership (Renewal)

AGENCY: Environmental Protection Agency (EPA).

ACTION: Notice.

SUMMARY: The Environmental Protection Agency has submitted an information collection request (ICR), SmartWay Transport Partnership (EPA ICR Number 2265.04, OMB Control Number 2060-0663) to the Office of Management and Budget (OMB) for review and approval in accordance with the Paperwork Reduction Act. This is a proposed extension of the ICR, which is currently approved through April 21, 2021. Public comments were previously requested via the Federal Register filed on July 27, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 26, 2021.

ADDRESSES: Submit your comments, referencing Docket ID Number EPA-HQ-OAR-2007-0482-0012, online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Erik Herzog, Office of Transportation and Air Quality, Environmental Protection Agency, 2000 Traverwood Drive, S-68, Ann Arbor, MI 48105; telephone number: 734-214-4487; fax number: 734-214-4906; email address: herzog.erik@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: SmartWay is open to organizations that own, operate, or contract with fleet operations, including truck, rail, barge, air and multi-modal carriers, logistics companies, and shippers. Organizations that do not operate fleets, but that are working to strengthen the freight industry, such as industry trade associations, state and local transportation agencies and environmental groups, also may join as SmartWay affiliates. All organizations that join SmartWay are asked to provide EPA with information as part of their SmartWay registration to annually benchmark their transportation-related operations and improve the environmental performance of their freight activities.

A company joins SmartWay when it completes and submits a SmartWay Excel-based tool (“reporting tool”) to EPA. The data outputs from the submitted tool are used by partners and SmartWay in several ways. First, the data provides confirmation that SmartWay partners are meeting established objectives in their Partnership Agreement. The reporting tool outputs enable EPA to assist SmartWay partners as appropriate, and to update them with environmental performance and technology information that empower them to improve their efficiency. This information also improves EPA's knowledge and understanding of the environmental and energy impacts associated with goods movement, and the effectiveness of both proven and emerging strategies to lessen those impacts.

In addition to requesting annual freight transportation-related data, EPA may ask its SmartWay partners for other kinds of information which could include opinions and test data on the effectiveness of new and emerging technology applications, sales volumes associated with SmartWay-recommended vehicle equipment and technologies, the reach and value of partnering with EPA through the SmartWay Partnership, and awareness of the SmartWay brand. In some instances, EPA might query other freight industry representatives (not just SmartWay partners), including trade and professional associations, nonprofit environmental groups, energy and community organizations, and universities, and a small sampling of the general public.

Form Numbers: Excellence Award Application: 5900-488, Smartway Signature Page and Tractor Trailer Equipment Checklist: 5900-489, Affiliate Agreement: 5900-490, Designated License Agreement: 5900-491.

Respondents/affected entities: Private and public organizations; freight industry representatives who engage in activities related to the SmartWay Partnership; and the general public.

Respondent's obligation to respond: Voluntary.

Estimated number of respondents: 4,925 (total).

Frequency of response: Once for affiliates and generally annually for partners.

Total estimated burden: 12,830 hours (per year). Burden is defined at 5 CFR 1320.03(b).

Total estimated cost: $861,881 (per year) for labor costs, includes $0 annualized capital or operation & maintenance costs.

Changes in the Estimates: Elimination of the Affiliate Challenge and efficiencies gained through the use of the online reporting tool have created burden reductions of 22 and 1,105 respectively for a total reduction 1,127 hours. These reductions counteract a total burden increase of 733 hours that results from increased participation in the program and burden calculation adjustments. In this renewal ICR there is an anticipated net reduction of 394 hours.

Courtney Kerwin,
Director, Regulatory Support Division.

[FR Doc. 2021-03795 Filed 2-23-21; 8:45 am]

BILLING CODE 6560-50-P